DEPARTMENT OF COMMERCE

International Trade Administration

[A-570-129, A-552-830]

Certain Walk-Behind Lawn Mowers and Parts Thereof From the People's Republic of China and the Socialist Republic of Vietnam: Antidumping Duty Orders

AGENCY: Enforcement and Compliance, International Trade Administration, Department of Commerce.

SUMMARY: Based on affirmative final determinations by the Department of Commerce (Commerce) and the International Trade Commission (ITC), Commerce is issuing antidumping duty orders on certain walk-behind lawn mowers and parts thereof (lawn mowers) from the People's Republic of China (China) and the Socialist Republic of Vietnam (Vietnam).

DATES: Applicable July 13, 2021.

FOR FURTHER INFORMATION CONTACT: Marc Castillo or Fred Baker at 202-482-0519 and 202-482-2924, respectively (China), and Frank Schmitt or Mark Flessner at 202-482-4880 and 202-482-6312, respectively (Vietnam); AD/CVD Operations, Enforcement and Compliance, International Trade Administration, U.S. Department of Commerce, 1401 Constitution Avenue NW, Washington, DC 20230.

SUPPLEMENTARY INFORMATION:

Background

On May 20, 2021, Commerce published its affirmative final determinations in the less-than-fair-value (LTFV) investigations of lawn mowers from China and Vietnam.¹ On July 6, 2021, the ITC notified Commerce of its final determinations, pursuant to section 735(d) of the Tariff Act of 1930, as amended (the Act), that an industry in the United States is materially injured within the meaning of section 735(b)(1)(A)(i) of the Act by reason of LTFV imports of lawn mowers from China, and is threatened with material injury by reason of LTFV imports of lawn mowers from Vietnam.²

¹ See Certain Walk-Behind Lawn Mowers and Parts Thereof from the People's Republic of China: Final Affirmative Determination of Sales at Less Than Fair Value, 86 FR 27384 (May 20, 2021); see also Certain Walk-Behind Lawn Mowers and Parts Thereof from the Socialist Republic of Vietnam: Final Affirmative Determination of Sales at Less Than Fair Value, 86 FR 27382 (May 20, 2021).

² See ITC Notification Letter, Investigation Nos. 701-TA-648 731-TA-1521-1522 (Final), dated July 6, 2021.

Scope of the Orders

The products covered by these orders are lawn mowers from China and Vietnam. For a complete description of the scope of these orders, see the appendix to this notice.

Antidumping Duty Orders

On July 6, 2021, in accordance with sections 735(b)(1)(A)(i)-(ii) and 735(d) of the Act, the ITC notified Commerce of its final determinations in these investigations, in which it found that an industry in the United States is materially injured by reason of imports of lawn mowers from China, and is threatened with material injury by reason of imports of lawn mowers from Vietnam.³ Therefore, in accordance with section 735(c)(2) of the Act, we are issuing these antidumping duty orders. Because the ITC determined that imports of lawn mowers from China are materially injuring a U.S. industry and imports of lawn mowers from Vietnam are threatening material injury to a U.S. industry, unliquidated entries of such merchandise from China and Vietnam, which are entered, or withdrawn from warehouse, for consumption are subject to the assessment of antidumping duties. Therefore, in accordance with section 736(a)(1) of the Act, Commerce will direct U.S. Customs and Border Protection (CBP) to assess, upon further instruction by Commerce, antidumping duties equal to the amount by which the normal value of the merchandise exceeds the export price (or constructed export price) of the merchandise, for all relevant entries of lawn mowers from China and Vietnam.

³ Id.

With respect to China, antidumping duties will be assessed on unliquidated entries of lawn mowers from China entered, or withdrawn from warehouse, for consumption on or after December 30, 2020, the date of publication of the China Preliminary Determination.⁴

⁴ See Certain Walk-Behind Lawn Mowers and Parts Thereof from the People's Republic of China: Preliminary Affirmative Determination of Sales at Less Than Fair Value, Postponement of Final Determination, and Extension of Provisional Measures, 85 FR 86529 (December 30, 2020) (China Preliminary Determination).

With respect to Vietnam, because the ITC's final determination is based on the threat of material injury, other than threat of material injury described in section 736(b)(1) of the Act, duties shall be assessed on subject merchandise entered, or withdrawn from warehouse, for consumption on or after the date of publication of the ITC's notice of final determination, pursuant to section 736(b)(2) of the Act. In addition, section 736(b)(2) of the Act requires CBP to release any bond or other security, and refund any cash deposit made of estimated antidumping duties posted since Commerce's preliminary antidumping duty determination.

Accordingly, Commerce will direct CBP to terminate the suspension of liquidation for entries of lawn mowers from Vietnam entered, or withdrawn from warehouse, for consumption prior to the publication of the ITC final determination in the Federal Register. Commerce will also instruct CBP to refund any cash deposits made with respect to entries of lawn mowers from Vietnam entered, or withdrawn from warehouse, for consumption on or after December 30, 2020, (the date of publication of the Vietnam Preliminary Determination ⁵), but before June 28, 2021 (the date suspension of liquidation was discontinued in accordance with section 733(d) of the Act).

⁵ See Certain Walk-Behind Lawn Mowers and Parts Thereof from the Socialist Republic of Vietnam: Preliminary Affirmative Determination of Sales at Less Than Fair Value, Postponement of Final Determination, and Extension of Provisional Measures, 85 FR 86534 (December 30, 2020) (Vietnam Preliminary Determination).

Suspension of Liquidation

In accordance with section 736 of the Act, Commerce will instruct CBP to continue to suspend liquidation on all relevant entries of lawn mowers from China, which are entered, or withdrawn from warehouse, for consumption on or after the date of publication of the ITC's final determination in the Federal Register. Commerce will also instruct CBP to reinstitute the suspension of liquidation of lawn mowers from Vietnam, effective the date of publication of the ITC's final determination in the Federal Register, and to assess, upon further instruction by Commerce, pursuant to section 736(a)(1) of the Act, antidumping duties for each entry of the subject merchandise equal to the amount by which the normal value of the merchandise exceeds the export price (or constructed export price) of the merchandise. These instructions suspending liquidation will remain in effect until further notice.

Commerce will also instruct CBP to require cash deposits equal to the estimated weighted-average dumping margins indicated in the tables below. Accordingly, effective on the date of publication in the Federal Register of the notice of the ITC's final affirmative injury determinations, CBP will require, at the same time as importers would normally deposit estimated duties on subject merchandise, a cash deposit equal to the rates listed below.

Provisional Measures

Section 733(d) of the Act states that suspension of liquidation pursuant to an affirmative preliminary determination may not remain in effect for more than four months, except where exporters representing a significant proportion of exports of the subject merchandise request that Commerce extend the four-month period to no more than six months. At the request of exporters that account for a significant proportion of lawn mowers from China and Vietnam, Commerce extended the four-month period to six months in each of these investigations. Commerce published the preliminary determinations in these investigations on December 30, 2020.⁶

⁶ See China Preliminary Determination; see also Vietnam Preliminary Determination.

The extended provisional measures period, beginning on the date of publication of the Preliminary Determinations, ended on June 27, 2021. Therefore, in accordance with section 733(d) of the Act and our practice,⁷ Commerce will instruct CBP to terminate the suspension of liquidation and to liquidate, without regard to antidumping duties, unliquidated entries of lawn mowers from China and Vietnam entered, or withdrawn from warehouse, for consumption after June 27, 2021, the final day on which the provisional measures were in effect, until and through the day preceding the date of publication of the ITC's final affirmative injury determinations in the Federal Register. Suspension of liquidation and the collection of cash deposits will resume on the date of publication of the ITC's final determinations in the Federal Register.

⁷ See, e.g., Certain Corrosion-Resistant Steel Products from India, India, the People's Republic of China, the Republic of Korea and Taiwan: Amended Final Affirmative Antidumping Determination for India and Taiwan, and Antidumping Duty Orders, 81 FR 48390, 48392 (July 25, 2016).

Estimated Weighted-Average Dumping Margins

The estimated weighted-average dumping margins are as follows:

China

Producer | Exporter | Estimated weighted- average dumping margin (percent) | Cash deposit rates (adjusted for subsidy offsets) (percent)
Ningbo Daye Garden Machinery Co., Ltd | Ningbo Daye Garden Machinery Co., Ltd | 98.73 | 88.14
Chongqing Dajiang Power Equipment Co., Ltd | Chongqing Dajiang Power Equipment Co., Ltd | 98.73 | 88.17
MTD Machinery (Suzhou) Co., Ltd | MTD Machinery (Suzhou) Co., Ltd | 98.73 | 88.17
Qianjiang Group Wenling Jennfeng Industry, Inc | Sumec Hardware & Tools Co., Ltd | 98.73 | 88.17
Sumec Hardware & Tools Co., Ltd | Sumec Hardware & Tools Co., Ltd | 98.73 | 88.17
Zhejiang KC Mechanical & Electrical Co., Ltd | Sumec Hardware & Tools Co., Ltd | 98.73 | 88.17
Zhejiang Dobest Power Tools Co., Ltd | Zhejiang Amerisun Technology Co., Ltd | 98.73 | 88.17
Zhejiang Dobest Power Tools Co., Ltd | Zhejiang Dobest Power Tools Co., Ltd | 98.73 | 88.17
Zhejiang YAT Electrical Appliance Co., Ltd | Zhejiang YAT Electrical Appliance Co., Ltd | 98.73 | 88.17
Zhejiang Zhongjian Technology Co., Ltd | Zhejiang Zhongjian Technology Co., Ltd | 98.73 | 88.17
China-Wide Entity |  | 274.29 | 263.75

Vietnam

Producer | Exporter | Estimated weighted- average dumping margin (percent)
Ducar Technology Co., Ltd | Ducar Technology Co., Ltd | 148.35
Vietnam-Wide Entity |  | 176.37

Notification to Interested Parties

This notice constitutes the antidumping duty orders with respect to lawn mowers from China and Vietnam pursuant to section 736(a) of the Act. Interested parties can find a list of antidumping duty orders currently in effect at http://enforcement.trade.gov/stats/iastats1.html.

These antidumping duty orders are published in accordance with sections 735(e) and 736(a) of the Act, and 19 CFR 351.224(e) and 19 CFR 351.211(b).

Dated: July 8, 2021.
James Maeder,
Deputy Assistant Secretary for Antidumping and Countervailing Duty Operations.

Appendix—Scope of the Orders

The merchandise covered by these orders consists of certain rotary walk-behind lawn mowers, which are grass-cutting machines that are powered by internal combustion engines. The scope of these orders covers certain walk-behind lawn mowers, whether self-propelled or non-self-propelled, whether finished or unfinished, whether assembled or unassembled, and whether containing any additional features that provide for functions in addition to mowing.

Walk-behind lawn mowers within the scope of these orders are only those powered by an internal combustion engine with a power rating of less than 3.7 kilowatts. These internal combustion engines are typically spark ignition, single or multiple cylinder, air cooled, internal combustion engines with vertical power take off shafts with a maximum displacement of 196cc. Walk-behind lawn mowers covered by this scope typically must be certified and comply with the Consumer Products Safety Commission Safety Standard For Walk-Behind Power Lawn Mowers under 16 CFR part 1205. However, lawn mowers that meet the physical descriptions above, but are not certified under 16 CFR part 1205 remain subject to the scope of these orders.

The internal combustion engines of the lawn mowers covered by this scope typically must comply with and be certified under Environmental Protection Agency air pollution controls title 40, chapter I, subchapter U, part 1054 of the Code of Federal Regulations standards for small non-road spark-ignition engines and equipment. However, lawn mowers that meet the physical descriptions above but that do not have engines certified under 40 CFR part 1054 or other parts of subchapter U remain subject to the scope of these orders.

For purposes of these orders, an unfinished and/or unassembled lawn mower means, at a minimum, a sub-assembly comprised of an engine and a cutting deck shell attached to one another. A cutting deck shell is the portion of the lawn mower—typically of aluminum or steel—that houses and protects a user from a rotating blade. Importation of the subassembly whether or not accompanied by, or attached to, additional components such as a handle, blade(s), grass catching bag, or wheel(s) constitute an unfinished lawn mower for purposes of these orders. The inclusion in a third country of any components other than the mower subassembly does not remove the lawn mower from the scope. Lawn mowers that meet the physical description above are covered by the scope of these orders regardless of the origin of its engine, unless such lawn mowers contain an engine that is covered by the scope of the antidumping and countervailing duty orders on certain vertical shaft engines between 99cc and up to 225cc, and parts thereof (small vertical engines) from China. If the antidumping or countervailing duty orders on small vertical engines from China are terminated, the lawn mowers containing small vertical engines from China will be covered by the scope of these orders.

The lawn mowers subject to these orders are typically at subheading: 8433.11.0050. Lawn mowers subject to these orders may also enter under Harmonized Tariff Schedule of the United States (HTSUS) 8407.90.1010 and 8433.90.1090. The HTSUS subheadings are provided for convenience and customs purposes only, and the written description of the merchandise under these orders is dispositive.

[FR Doc. 2021-14840 Filed 7-12-21; 8:45 am]

BILLING CODE 3510-DS-P